DEPARTMENT OF HOMELAND SECURITY

Federal Emergency Management Agency

[Docket ID FEMA-2013-0002; Internal Agency Docket No. FEMA-B-1347]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 23, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1347, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Walker County, Alabama, and Incorporated Areas
Maps Available for Inspection Online at: www.fema.gov/preliminaryfloodhazarddata
City of Carbon Hill | City Hall, 170 NW 2nd Avenue, Carbon Hill, AL 35549.
City of Cordova | City Hall, 74 Main Street, Cordova, AL 35550.
City of Dora | City Hall, 1485 Sharon Boulevard, Dora, AL 35062.
City of Jasper | City Hall, 400 West 19th Street, Jasper, AL 35501.
Town of Eldridge | Town Hall, 208 Smothers Avenue, Eldridge, AL 35554.
Town of Kansas | Town Hall, 497 Old Highway 78, Kansas, AL 35573.
Town of Nauvoo | Town Hall, 176 McDaniel Avenue, Nauvoo, AL 35578.
Town of Oakman | Town Hall, 8236 Market Street, Oakman, AL 35579.
Town of Parrish | Town Hall, 6484 Highway 269, Parrish, AL 35580.
Town of Sipsey | Town Hall, 3635 Sipsey Road, Sipsey, AL 35584.
Town of Sumiton | Town Hall, 416 State Street, Sumiton, AL 35148.
Unincorporated Areas of Walker County | Walker County Engineering Department, 1801 3rd Avenue South, Jasper, AL 35502.
Navajo County, Arizona, and Incorporated Areas
Maps Available for Inspection Online at: www.fema.gov/preliminaryfloodhazarddata
City of Holbrook | 465 First Avenue, Holbrook, AZ 86025.
City of Show Low | 200 West Cooley Street, Show Low, AZ 85901.
Town of Pinetop-Lakeside | 1360 North Niels Hanson Lane, Pinetop-Lakeside, AZ 85929.
Unincorporated Areas of Navajo County | Flood Control Division, 100 East Carter Drive, Holbrook, AZ 86025.
Citrus County, Florida, and Incorporated Areas
Maps Available for Inspection Online at: www.fema.gov/preliminaryfloodhazarddata
City of Crystal River | City Hall, 123 NW U.S. Highway 19, Crystal River, FL 34428.
City of Inverness | City Hall, 212 West Main Street, Inverness, FL 34450.
Unincorporated Areas of Citrus County | Lecanto Government Complex, 3600 West Sovereign Path, Lecanto, FL 34461.
Glades County, Florida, and Incorporated Areas
Maps Available for Inspection Online at: www.fema.gov/preliminaryfloodhazarddata
City of Moore Haven | 299 Riverside Drive, Moore Haven, FL 33471.
Unincorporated Areas of Glades County | 500 Avenue J, Moore Haven, FL 33471.
Pasco County, Florida, and Incorporated Areas
Maps Available for Inspection Online at: www.fema.gov/preliminaryfloodhazarddata
City of Dade City | City Hall, 14206 U.S. Highway 98 Bypass, Dade City, FL 33523.
City of New Port Richey | City Hall, 5919 Main Street, New Port Richey, FL 34652.
City of Port Richey | City Hall, 6333 Ridge Road, Port Richey, FL 34668.
City of San Antonio | City Hall, 32819 Pennsylvania Avenue, San Antonio, FL 33576.
City of Zephyrhills | City Hall, 5335 8th Street, Zephyrhills, FL 33542.
Town of St. Leo | Town Hall, 34544 State Road 52, Saint Leo, FL 33574.
Unincorporated Areas of Pasco County | New Port Richey Government Center, 7530 Little Road, New Port Richey, FL 34654.
City and County of Honolulu, Hawaii
Maps Available for Inspection Online at: www.fema.gov/preliminaryfloodhazarddata
City and County of Honolulu | Department of Planning and Permitting, 650 South King Street, Honolulu, HI 96813.
Greenup County, Kentucky, and Incorporated Areas
Maps Available for Inspection Online at: www.fema.gov/preliminaryfloodhazarddata
City of Bellefonte | Bellefonte City Hall, 705 Bellefonte Princess Road, Ashland, KY 41101.
City of Greenup | City Hall, 1005 Walnut Street, Greenup, KY 41144.
City of Raceland | City Hall, 711 Chinn Street, Raceland, KY 41169.
City of Russell | City Hall, 410 Ferry Street, Russell, KY 41169.
City of South Shore | City Hall, 69 Narco Drive, South Shore, KY 41175.
City of Worthington | City Hall, 512 Ferry Street, Worthington, KY 41183.
City of Wurtland | City Hall, 500 Wurtland Avenue, Wurtland, KY 41144.
Unincorporated Areas of Greenup County | Greenup County Courthouse, 301 Main Street, Room 102, Greenup, KY 41144.
Missoula County, Montana, and Incorporated Areas
Maps Available for Inspection Online at: www.fema.gov/preliminaryfloodhazarddata
City of Missoula | 435 Ryman Street, Missoula, MT 59802.
Unincorporated Areas of Missoula County | 317 Woody Street, Missoula, MT 59802.

(Catalog of Federal Domestic Assistance No. 97.022, “Flood Insurance.”)

Dated: August 30, 2013.
Roy E. Wright,
Deputy Associate Administrator for Mitigation, Department of Homeland Security, Federal Emergency Management Agency.

[FR Doc. 2013-23065 Filed 9-20-13; 8:45 am]

BILLING CODE 9110-12-P